DEPARTMENT OF HEALTH AND HUMAN SERVICES

Substance Abuse and Mental Health Services Administration

Notice of meeting

Pursuant to Public Law 92-463, notice is hereby given that the Substance Abuse and Mental Health Services Administration's (SAMHSA) Center for Substance Abuse Prevention's (CSAP) Drug Testing Advisory Board (DTAB) will convene via in person and web conference on June 11, 2019, from 9:30 a.m. EDT to 4:30 p.m. EDT, and June 12, 2019, from 9:00 a.m. EDT to 4:00 p.m. EDT.

The Board will meet in open-session in-person on June 11, 2019, from 9:30 a.m. EDT to 4:30 p.m. EDT and on June 12, 2019, from 9:00 a.m. EDT to 10:00 a.m. EDT to discuss the proposed Mandatory Guidelines for Federal Workplace Drug Testing Programs (urine specimens) with updates from the Department of Transportation, Nuclear Regulatory Commission, and the Departmetment of Defense. There will be additional presentations from the Division of Workplace Programs' staff on urine, oral fluid, hair Mandatory Guidelines, emerging issues surrounding marijuana legalization, and latest studies from the Behavioral Pharmacology Research Unit (BPRU). The board will meet in closed-session in-person on June 12, 2019, from 10:00 a.m. EDT to 4:00 p.m. EDT to discuss confidential issues surrounding the proposed Mandatory Guidelines for Federal Workplace Drug Testing Programs (urine specimens, oral fluid, hair), invalids, studies from Johns Hopkins BPRU, impact of cannabis laws on drug testing and future direction, potential recommendations to the Assistant Secretary for Mental Health and Substance Use regarding additional drugs that may be tested for in the future, and lastly, program financials. Therefore, June 12, 2019, from 10:00 a.m. EDT to 4:00 p.m. EDT meeting is closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Matthew Aumen.

Committee Name: Substance Abuse and Mental Health Services Administration, Center for Substance Abuse Prevention, Drug Testing Advisory Board.

Dates/Time/Type: June 11, 2019, from 9:30 a.m. to 4:30 p.m. EDT: OPEN, June 12, 2019, from 9:00 a.m. to 10:00 a.m. EDT: OPEN, June 12, 2019, from 10:00 a.m. to 4:00 p.m. EDT: CLOSED.

Place: Hilton Washington DC/Rockville Hotel & Executive Meeting Center, 1750 Rockville Pike, Rockville, MD 20852.

Contact: Matthew Aumen, Program Analyst, Center for Substance Abuse Prevention, 5600 Fishers Lane, Room 16E61A, Rockville, Maryland 20857, Telephone: (240) 276-2419, Email: matthew.aumen@samhsa.hhs.gov.

Charles LoDico,
Chemist.

[FR Doc. 2019-10445 Filed 5-17-19; 8:45 am]

BILLING CODE 4162-20-P